DEPARTMENT OF AGRICULTURE

Forest Service

Black Hills National Forest Advisory Board

AGENCY: Forest Service, USDA.

ACTION: Notice of meeting.

SUMMARY: The Black Hills National Forest Advisory Board (Board) will meet in Rapid City South Dakota. The Board is established consistent with the Federal Advisory Committee Act of 1972 (5 U.S.C. App. II) (FACA); and the Forest and Rangeland Renewable Resources Planning Act of 1974 (16 U.S.C. sec. 1600 et.seq.) (RPA); the National Forest Management Act of 1976 (16 U.S.C. sec. 1612) (NFMA), and the Federal Public Lands Recreation Enhancement Act (Pub. L. 108-447) (REA). The purpose of the Board is to provide advice and recommendations on a broad range of forest issues such as forest plan revisions or amendments, forest health including fire and mountain pine beetle epidemics, travel management, forest monitoring and evaluation, recreation fees, and site-specific projects having forest-wide implications. The meeting is open to the public. The purpose of the meeting is: (1) to provide information to, and receive recommendations from, the Board regarding future range and grazing management actions; (2) to provide an update to, and receive comments and recommendations from, the Board about White-Nose Syndrome and the Cave Management Environmental Impact Statement.

DATES: The meeting will be held April 17, 2013 at 1:00 p.m.

ADDRESSES: The meeting will be held at the Forest Service Mystic Ranger District Office, 8221 South Highway 16, Rapid City SD 57702. Written comments may be submitted as described under Supplementary Information. All comments, including names and addresses when provided, are placed in the record and are available for public inspection and copying. The public may inspect comments received at the Supervisor's Office, Black Hills National Forest, 1019 North Fifth Street, Custer SD 57730. Please call ahead to Scott Jacobson, Committee Management Officer, at 605-673-9216, to facilitate entry into the building to view comments.

FOR FURTHER INFORMATION CONTACT: Scott Jacobson, Committee Management Officer, Black Hills National Forest Supervisor's Office, 605-673-9324, sjjacobson@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) A discussion of Range Management issues; and, (2) an update on White-Nose Syndrome and the Cave Management Environmental Impact Statement. Anyone who would like to bring related matters to the attention of the committee may file written statements with the committee staff before the meeting. The agenda will include time for people to make oral statements of three minutes or less. Individuals wishing to make an oral statement should request in writing by April 3, 2013 to be scheduled on the agenda. Written comments and requests for time for oral comments must be sent to Scott Jacobson, Supervisor's Office, Black Hills National Forest, 1019 North Fifth Street, Custer SD 57730, or by email to sjjacobson@fs.fed.us, or via facsimile to 605-673-9208. A summary of the meeting will be posted at http://www.fs.usda.gov/main/blackhills/workingtogether/advisorycommittees within 45 days of the meeting.

Meeting Accommodations: If you require sign language interpreting, assistive listening devices or other reasonable accommodation please request this in advance of the meeting by contacting the person listed in the section titled FOR FURTHER INFORMATION CONTACT. All reasonable accommodation requests are managed on a case by case basis.

Dated: April 2, 2013.
Dennis Jaeger,
Acting Forest Supervisor.

[FR Doc. 2013-08174 Filed 4-8-13; 8:45 am]

BILLING CODE 3410-11-P